DEPARTMENT OF THE TREASURY

Office of Thrift Supervision

Proposed Agency Information Collection Activities; Comment Request—Branch Offices

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on its proposal to extend this information collection.

DATES: Submit written comments on or before March 28, 2008.

ADDRESSES: Send comments, referring to the collection by title of the proposal or by OMB approval number, to Information Collection Comments, Chief Counsel's Office, Office of Thrift Supervision, 1700 G Street, NW., Washington, DC 20552; send a facsimile transmission to (202) 906-6518; or send an e-mail to infocollection.comments@ots.treas.gov. OTS will post comments and the related index on the OTS Internet Site at http://www.ots.treas.gov. In addition, interested persons may inspect comments at the Public Reading Room, 1700 G Street, and NW., by appointment. To make an appointment, call (202) 906-5922, send an e-mail to public.info@ots.treas.gov, or send a facsimile transmission to (202) 906-7755.

FOR FURTHER INFORMATION CONTACT: You can request additional information about this proposed information collection from Patricia D. Goings, (202) 906-5668, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Comments should address one or more of the following points:

a. Whether the proposed collection of information is necessary for the proper performance of the functions of OTS;

b. The accuracy of OTS's estimate of the burden of the proposed information collection;

c. Ways to enhance the quality, utility, and clarity of the information to be collected;

d. Ways to minimize the burden of the information collection on respondents, including through the use of information technology.

We will summarize the comments that we receive and include them in the OTS request for OMB approval. All comments will become a matter of public record. In this notice, OTS is soliciting comments concerning the following information collection.

Title of Proposal: Branch Offices.

OMB Number: 1550-0006.

Form Numbers: 1450 and 1558.

Regulation requirement: 12 CFR Parts 516 and 545.

Description: Pursuant to 12 CFR 545.92, Federally chartered institutions are required to submit either an application or notice prior to establishing a branch office. 12 CFR 545.95 requires Federally chartered institutions to submit either an application or a notice prior to relocating an existing office facility. Such applications or notices must be in a form prescribed by OTS. OTS's Applications for Permission to Establish a Branch Office and Change of Location of an Office are designed to provide the minimum amount of information necessary to determine whether the request meets OTS's criteria for approval of these activities.

The applicant is required to publish notice of the filing of a branch application or notice in a newspaper printed in the English language. If, however, it is determined that the primary language of a significant number of adult residents of the community is other than English, the institution may be required to publish the notice simultaneously in the appropriate language(s). 12 CFR 516.80. The publication must occur no earlier than seven days before and no later than the date of filing of the application or notice. 12 CFR 516.60. If the transaction is a change of location or redesignation of the home office, the applicant shall post a notice of the application for 25 days from the date of the first publication in a prominent location in the office to be relocated or redesignated. 12 CFR 545.95.

Section 228 of the Federal Deposit Insurance Corporation Improvement Act of 1991 requires each insured depository institution to give 90 days prior written notice of any branch closing to its primary federal regulator and to branch customers. The notice to the regulator must include a detailed statement of the reasons for the decision to close the branch and information in support of those reasons.

Type of Review: Extension of a currently approved collection.

Affected Public: Businesses or other for-profit: Federal Government.

Estimated Number of Respondents: 584.

Estimated Number of Responses: 584.

Estimated Time per Respondent: 1 hour and 29 minutes for the application; 1 hour for Third Party Disclosure; and 10 minutes for a change application.

Estimated Frequency of Response: Other: Required once converting to stock form.

Estimated Total Burden: 4,080 hours.

Clearance Officer: Ira L. Mills, (202) 906-6531, Office of Thrift Supervision, 1700 G Street, NW., Washington, DC 20552.

Dated: January 22, 2008.
Deborah Dakin,
Senior Deputy Chief Counsel, Regulations and Legislation Division.

[FR Doc. E8-1406 Filed 1-25-08; 8:45 am]

BILLING CODE 6720-01-P